DEPARTMENT OF AGRICULTURE

Animal and Plant Health Inspection Service

[Docket No. APHIS-2023-0022]

Movement of Organisms Modified or Produced Through Genetic Engineering; Notice of Proposed Exemptions; Reopening of Comment Period

AGENCY: Animal and Plant Health Inspection Service, USDA.

ACTION: Reopening of comment period.

SUMMARY: We are reopening the comment period for our notice that proposes to add five new types of genetic modifications a plant can contain and be exempt from the regulations for the movement of organisms modified or produced through genetic engineering because such modifications could otherwise be achieved through conventional breeding methods. This action will allow interested persons additional time to prepare and submit comments.

DATES: The comment period for the notice published on November 15, 2023 (88 FR 78285-78291) is reopened. We will consider all comments that we receive on or before January 19, 2024.

ADDRESSES: You may submit comments by either of the following methods:

• Federal eRulemaking Portal: Go to www.regulations.gov. Enter APHIS-2023-0022 in the Search field. Select the Documents tab, then select the Comment button in the list of documents.

• Postal Mail/Commercial Delivery: Send your comment to Docket No. APHIS-2023-0022, Regulatory Analysis and Development, PPD, APHIS, Station 3A-03.8, 4700 River Road, Unit 118, Riverdale, MD 20737-1238.

Supporting documents and any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Neil Hoffman, Science Advisor, Biotechnology Regulatory Services, APHIS, 4700 River Road, Unit 98, Riverdale, MD 20737-1238; Neil.E.Hoffman@usda.gov; (301) 851-3947.

SUPPLEMENTARY INFORMATION:

On November 15, 2023, we published in the Federal Register (88 FR 78285-78291, Docket No. APHIS-2023-0022) a proposal that would add five new types of genetic modifications a plant can contain and be exempt from the regulations for the movement of organisms modified or produced through genetic engineering because such modifications could otherwise be achieved through conventional breeding methods.

Comments on the notice were required to be received on or before December 15, 2023. We are reopening the comment period on Docket No. APHIS-2023-0022 until January 19, 2024. This action will allow interested persons additional time to prepare and submit comments. We will also consider all comments received between December 16, 2023 (the day after the close of the original comment period) and the date of this notice.

Authority: 7 U.S.C. 7701-7772 and 7781-7786; 31 U.S.C. 9701; 7 CFR 2.22, 2.80, and 371.3.

Done in Washington, DC, this 21st day of December 2023.
Michael Watson,
Administrator, Animal and Plant Health Inspection Service.

[FR Doc. 2023-28545 Filed 12-26-23; 8:45 am]

BILLING CODE 3410-34-P